DEPARTMENT OF LABOR

Occupational Safety and Health Administration

Susan Harwood Training Grant Program; Revised Notice

AGENCY: Occupational Safety and Health Administration (OSHA), Labor.

ACTION: Extension of grant application deadline.

SUMMARY: This notice extends the Susan Harwood Training Grant Program application deadline from May 19, 2000, to June 2, 2000.

The notice of availability of funds and request for grant applications was originally published in the Federal Register, 65 FR 17316, March 31, 2000. Organizations interested in submitting a grant application should refer to the March 31 Federal Register notice which describes the scope of the grant program and provides information about how to get detailed grant application instructions. Applications should not be submitted without the applicant first obtaining detailed grant application instructions.

DATES: Grant application deadline is 4:30 p.m. Central Time, Friday, June 2, 2000.

ADDRESSES: Submit grant applications to the OSHA Office of Training and Education, Division of Training and Educational Programs, 1555 Times Drive, Des Plaines, Illinois 60018.

FOR FURTHER INFORMATION CONTACT: Ronald Mouw, Chief, Division of Training and Educational Programs, or Cynthia Bencheck, Program Analyst, OSHA Office of Training and Education, 1555 Times Drive, Des Plaines, Illinois 60018, telephone (847) 297-4810, e-mail cindy.bencheck@osha.gov.

Section 21(c) of the Occupational Safety and Health Act of 1970 (29 U.S.C. 670) authorizes this program.

Signed at Washington, D.C., this 20th day of April 2000.
Charles N. Jeffress,
Assistant Secretary of Labor.

[FR Doc. 00-10436 Filed 4-25-00; 8:45 am]

BILLING CODE 4510-26-P